DEPARTMENT OF THE INTERIOR

Bureau of Reclamation

Pajaro Valley Water Management Agency Revised Basin Management Plan Project; Santa Cruz; Santa Clara, Monterey, and San Benito Counties, CA

AGENCY: Bureau of Reclamation, Interior.

ACTION: Notice of availability of the final environmental impact statement.

SUMMARY: The Bureau of Reclamation (Reclamation) has prepared a Final Environmental Impact Statement (FEIS) for the Pajaro Valley Water Management Agency (PVWMA) Revised Basin Management Plan Project.

The purpose of the project is to address groundwater overdraft and seawater intrusion problems in the Pajaro Valley Basin. The proposed action is the approval of the connection of a PVWMA pipeline to the Santa Clara Conduit and the funding for the design, planning, and construction of a recycled water facility.

Notice of the availability of the Draft EIS was published in the Federal Register on September 25, 2003 (68 FR 55412). A public meeting was held on October 29, 2003 to receive comments on the Draft EIS. The FEIS contains responses to all comments received and changes made to the text of the Draft EIS as a result of those comments.

DATES: Reclamation will not make a decision on the proposed action until 30 days after release of the FEIS. After the 30-day waiting period, Reclamation will complete a Record of Decision (ROD). The ROD will state the action that will be implemented and will discuss all factors leading to the decision.

ADDRESSES: Copies of the FEIS in hard copy or on CD may be requested from Reclamation's South-Central California Area Office or from PVWMA's office at the following addresses:

• Bureau of Reclamation, South-Central California Area Office, 1243 N Street, Fresno, CA 93721-1813.

• Pajaro Valley Water Management Agency, 36 Brennan Street, Watsonville, CA 95076.

The document can also be viewed on PVWMA's web page at http://www.pvwma.dst.ca.us/

FOR FURTHER INFORMATION CONTACT: Ms. Lynne Silva, Bureau of Reclamation, South-Central California Area Office, telephone 559-487-5807; or Mr. Charles McNiesh, Pajaro Valley Water Management Agency, 831-722-9292.

SUPPLEMENTARY INFORMATION: The FEIS considers the effects of the construction of PVWMA's pipeline and the construction and operation of a water treatment facility. The water treatment facility would be used to blend imported water. In 1999, Reclamation prepared an Environmental Assessment and approved a contract assignment from Mercy Springs Water District that provided 6,260 acre feet per year of Central Valley Project (CVP) water for PVWMA. The proposed pipeline connection to the Santa Clara Conduit (a component of the CVP) would provide the means for this imported water to be delivered into PVMWA. Therefore, the FEIS considers the effects of imported water on water resources in PVMWA. Other contract assignments or transfers resulting in importing water into PVWMA are not the focus of this FEIS. Separate environmental analysis and documents would be required. Reclamation is developing an Environmental Assessment for the assignment from Broadview Water District to PVWMA. This proposed assignment is discussed in the FEIS for disclosure purposes. Broadview Water District's CVP contract supply is up to 27,000 acre feet per year. The project description and alternatives have yet to be fully developed. The environmental impacts associated with this assignment and other actions occurring in the San Joaquin Valley are outside the scope of analysis in this FEIS.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses available for public disclosure in their entirety.

Dated: January 6, 2004.
Kirk C. Rodgers,
Regional Director, Mid-Pacific Region.

[FR Doc. 04-9301 Filed 4-22-04; 8:45 am]

BILLING CODE 4310-MN-P